DELAWARE RIVER BASIN COMMISSION

Notice of Public Hearing and Business Meeting

Notice is hereby given that the Delaware River Basin Commission will hold a public hearing on Tuesday, July 9, 2013. A business meeting will be held the following day on Wednesday, July 10, 2013. Both the hearing and business meeting are open to the public and will be held at the Carvel State Building, 820 North French Street, 2nd Floor Auditorium, Wilmington, Delaware.

Public Hearing. The public hearing on July 9, 2013 will begin at 1:30 p.m. Hearing items will include draft dockets for projects subject to the Commission's review, and resolutions to: (a) Reauthorize the Toxics Advisory Committee; (b) authorize the Executive Director to enter into a contract for water quality sampling and analysis to characterize the nature and extent of chronic toxicity in the Delaware River; and (c) authorize the Executive Director to enter into an agreement with the University of Maryland for the analysis of estuary water samples for productivity and nutrient parameters in connection with the Commission's nutrient management strategy. The list of projects scheduled for hearing, including project descriptions, is currently available in a long form of this notice posted on the Commission's Web site, www.drbc.net. Draft dockets and resolutions for hearing items will be posted on the Web site approximately ten days prior to the hearing date. Written comments on draft dockets and resolutions scheduled for hearing on July 9 will be accepted through the close of the hearing that day. Time permitting, after the hearing on all scheduled matters has been completed, there will be an opportunity for public dialogue. Because hearings on particular projects may be postponed to allow additional time for the commission's review, interested parties are advised to check the Web site periodically prior to the hearing date. Postponements, if any, will be duly noted there.

Public Meeting. The business meeting on July 10, 2013 will begin at 12:15 p.m. and will include the following items: Adoption of the Minutes of the Commission's May 8, 2013 business meeting, announcements of upcoming meetings and events, a report on hydrologic conditions, reports by the Executive Director and the Commission's General Counsel, consideration of items for which a hearing has been completed, and a public dialogue session. The Commissioners also may consider action on matters not subject to a public hearing.

There will be no opportunity for additional public comments at the July 10 business meeting on items for which a hearing was completed on July 9 or a previous date. Commission consideration on July 10 of items for which the public hearing is closed may result in either approval of the docket or resolution as proposed, approval with changes, denial, or deferral. When the commissioners defer an action, they may announce an additional period for written comment on the item, with or without an additional hearing date, or they may take additional time to consider the input they have already received without requesting further public input. Any deferred items will be considered for action at a public meeting of the commission on a future date.

Advance Sign-Up for Oral Comment. Individuals who wish to comment for the record at the public hearing on July 9 or to address the Commissioners informally during the public dialogue portion of the meeting on July 10 are asked to sign up in advance by contacting Ms. Paula Schmitt of the Commission staff, at paula.schmitt@drbc.state.nj.us or by phoning Ms. Schmitt at 609-883-9500 ext. 224.

Addresses for Written Comment. Written comment on items scheduled for hearing may be delivered by hand at the public hearing or submitted in advance of the hearing date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Updates. Items scheduled for hearing are occasionally postponed to allow more time for the Commission to consider them. Other meeting items also are subject to change. Please check the Commission's Web site, www.drbc.net, closer to the meeting date for changes that may be made after the deadline for filing this notice.

Additional Information, Contacts. The list of projects scheduled for hearing, with descriptions, is currently available in a long form of this notice posted on the Commission's Web site, www.drbc.net. Draft dockets and resolutions for hearing items will be posted as hyperlinks from the notice at the same location approximately ten days prior to the hearing date. Additional public records relating to hearing items may be examined at the Commission's offices by appointment by contacting Ms. Carol Adamovic, 609-883-9500, ext. 249. For other questions concerning hearing items, please contact Project Review Section Assistant Ms. Victoria Lawson at 609-883-9500, ext. 216.

Dated: June 26, 2013.
Pamela M. Bush,
Commission Secretary and Assistant General Counsel.

[FR Doc. 2013-15821 Filed 7-1-13; 8:45 am]

BILLING CODE 6360-01-P